DEPARTMENT OF COMMERCE

National Institute of Standards and Technology

Cryptographic Key Management Workshop

AGENCY: National Institute of Standards and Technology (NIST), Commerce.

ACTION: Notice of public workshop.

SUMMARY: The National Institute of Standards and Technology (NIST) announces a workshop to discuss the development of Cryptographic Key Management guidance for Federal Government applications. The workshop will be held to review and discuss draft documentation that will be available prior to the workshop.

DATES: The Key Management Workshop will be held on November 1-2, 2001, from 9 a.m. to 5 p.m.

ADDRESSES: The Key Management workshop will be held in the Administration Building (Bldg. 101), Lecture Room A, National Institute of Standards and Technology, Gaithersburg, MD.

FOR FURTHER INFORMATION CONTACT: Further information may be obtained from the Key Management web site at http://www.nist.gov/kms or by contacting Elaine Barker, National Institute of Standards and Technology, Building 100 Bureau Drive, Stop 8930, Gaithersburg, MD 20899-8930; telephone 301-975-2911; Fax 301-948-1233, or email ebarker@nist.gov.

SUPPLEMENTARY INFORMATION: Electronic Commerce needs well-established cryptographic schemes that can provide such services as data integrity and confidentiality. Symmetric encryption schemes such as Triple DES, as defined in FIPS 46-3, and the Advanced Encryption Standard (AES) make attractive choices for the provision of these services. Systems using symmetric techniques are efficient, and their security requirements are well understood. Furthermore, these schemes have been or will be standardized to facilitate interoperability between systems. However, the implementation of such schemes requires the establishment of a shared secret key in advance. As the size of a key management system or the number of entities using a system grows, the need for key establishment can lead to a key management problem.

In 1997, NIST announced plans to develop a public key-based key management standard and solicited comments from the public. In February of 2000, a public workshop was held to examine key establishment techniques that are currently available and to discuss the approach to the development of a Key Management Standard for Federal Government use. The workshop attendees suggested (1) the development of a “framework” document that discusses the documents to be developed and their proposed content, (2) the identification of key establishment schemes, and (3) the development of key management guidance.

Following the workshop, the framework document was prepared and made available for review on the Key Management web page (http://www.nist.gov/kms). A key establishment scheme definition document and a key management guidance document are currently under development. Initial drafts of these documents will be made available on the Key Management web page at least one month prior to the workshop and will be the subjects under discussion during that workshop.

For planning purposes, advance registration is encouraged. To register, please fax your name, address, telephone, fax and e-mail address to 301-926-2733 (Attn: Key Management Workshop) by October 19, 2000. Registration questions should be addressed to Vickie Harris on 301-975-2034. Registration will also be available at the door, space permitting. The workshop will be open to the public and is free of charge.

Authority: This work is being initiated pursuant to NIST's responsibilities under the Computer Security Act of 1987, the Information Technology Management Reform Act of 1996, Executive Order 13011, and OMB Circular A-130.

Dated: June 21, 2001.
Karen H. Brown,
Acting Director, NIST.

[FR Doc. 01-16187 Filed 6-26-01; 8:45 am]

BILLING CODE 3510-CN-M